ENVIRONMENTAL PROTECTION AGENCY

[FRL-1006-23-Region 9]

Santa Ana Hollister (Formerly M.K. Ballistics) Removal Site, Hollister, CA; Notice of Proposed CERCLA Settlement Agreement for Recovery of Past Response Costs

AGENCY: Environmental Protection Agency (EPA).

ACTION: Notice; request for comment.

SUMMARY: In accordance with the Comprehensive Environmental Response, Compensation and Liability Act of 1980, as amended (CERCLA), notice is hereby given of a proposed administrative settlement for recovery of response costs concerning the Santa Ana Hollister (Formerly M.K. Ballistics) Removal Site in Hollister, California. The settlement is entered into pursuant to Section 122(h)(1) of CERCLA, and it requires the settling parties to reimburse EPA $121,500 in response costs that EPA incurred at the Site.

DATES: EPA will receive written comments relating to this proposed settlement until April 6, 2020.

ADDRESSES: The proposed settlement is available for public inspection at EPA Region IX, 75 Hawthorne Street, San Francisco, California. A copy of the proposed settlement may be obtained from Myles Saron, EPA Region IX, 75 Hawthorne Street, ORC-3, San Francisco, CA 94105, telephone number 415-972-3911. Comments should reference the Santa Ana Hollister (Formerly M.K. Ballistics) Removal Site, Hollister, California and should be addressed to Mr. Saron at the above address.

FOR FURTHER INFORMATION CONTACT: Myles Saron, Attorney Adviser (ORC-3), Office of Regional Counsel, U.S. EPA Region IX, 75 Hawthorne Street, San Francisco, CA 94105; phone: (415) 972-3911; fax: (417) 947-3570; email: saron.myles@epa.gov.

SUPPLEMENTARY INFORMATION: In accordance with Section 122(i) of the Comprehensive Environmental Response, Compensation and Liability Act of 1980, as amended (CERCLA), 42 U.S.C. 9622(i), notice is hereby given of a proposed administrative settlement for recovery of response costs concerning the Santa Ana Hollister (Formerly M.K. Ballistics) Removal Site in Hollister, California. The settlement is entered into pursuant to Section 122(h)(1) of CERCLA, 42 U.S.C. 9622(h)(1), and it requires the settling parties to reimburse EPA $121,500 in response costs that EPA incurred at the Site. The settlement includes a covenant not to sue the settling parties pursuant to Sections 106 or 107(a) of CERCLA, 42 U.S.C. 9606 or 9607(a). For thirty (30) days following the date of publication of this Notice in the Federal Register, the Agency will receive written comments relating to the settlement. The Agency will consider all comments received and may modify or withdraw its consent to the settlement if comments received disclose facts or considerations that indicate the proposed settlement is inappropriate, improper, or inadequate. The Agency's response to any comments received will be available for public inspection at 75 Hawthorne Street, San Francisco, CA 94105.

Parties to the Proposed Settlement: Gil Zuniga, Margaret Zuniga Healy, Vincent M. Zuniga, Mary A. Zuniga, Steven M Zuniga, and Sheron Johnson.

Dated: February 20, 2020.
Enrique Manzanilla,
Director, Superfund Division, U.S. EPA, Region IX.

[FR Doc. 2020-04662 Filed 3-5-20; 8:45 am]

BILLING CODE 6560-50-P